SOCIAL SECURITY ADMINISTRATION

[Docket No. SSA-2010-0081]

Rate for Assessment on Direct Payment Fees to Representatives in 2011

AGENCY: Social Security Administration (SSA).

ACTION: Notice.

SUMMARY: We are announcing that the assessment percentage rate under sections 206(d) and 1631(d)(2)(C) of the Social Security Act (Act), 42 U.S.C. 406 (d), and 1383(d)(2)(C), is 6.3 percent for 2011.

FOR FURTHER INFORMATION CONTACT: Jeffrey Blair, Acting Associate General Counsel for Program Law, Office of the General Counsel, Social Security Administration, 6401 Security Boulevard, Baltimore, MD 21235-6401. Phone: (410) 965-3157, e-mail Jeff.Blair@ssa.gov.

SUPPLEMENTARY INFORMATION: Section 406 of Public Law 106-170, the Ticket to Work and Work Incentives Improvement Act of 1999, established an assessment for the services we must perform to determine and certify payments to attorneys from the benefits due claimants under Title II of the Act. This provision is codified in section 206(d) of the Act (42 U.S.C. 406(d)). That legislation set the assessment for the calendar year 2000 at 6.3 percent of the amount that would be required to be certified for direct payment to the attorney under sections 206(a)(4) or 206(b)(1) of the Act before the application of the assessment. For subsequent years, the legislation requires us to determine the percentage rate necessary to achieve full recovery of the costs of determining and certifying fees to attorneys, but not in excess of 6.3 percent. In Public Law 108-203, the Social Security Protection Act of 2004 (SSPA), Congress also imposed a dollar cap on the amount of the assessment so that the assessment may not exceed the lesser of that dollar cap or the amount determined using the assessment percentage rate. That dollar cap is subject to annual adjustment and remains at the current rate of $83, as announced in the Federal Register on November 30, 2010, at 75 FR 74123.

Beginning in 2005, sections 302 and 303 of the SSPA temporarily extended the direct payment of fees to attorneys in cases under Title XVI of the Act and to eligible non-attorney representatives in cases under Title II and Title XVI of the Act. Those provisions were made permanent by Public Law 111-142, the Social Security Disability Applicants' Access to Professional Representation Act of 2010. Fees directly paid under these provisions are also subject to the assessment.

Based on the best available data, we have determined that the current rate of 6.3 percent will continue for 2011. We will continue to review our costs for these services on a yearly basis.

Dated: December 17, 2010.
Michael G. Gallagher,
Deputy Commissioner for Budget, Finance and Management.

[FR Doc. 2010-32566 Filed 12-27-10; 8:45 am]

BILLING CODE 4191-02-P